DEPARTMENT OF LABOR

Employment and Training Administration

[TA-W-62,333]

Liberty Fibers Corporation, Lowland, TN; Notice of Affirmative Determination Regarding Application for Reconsideration

By letter dated November 28, 2007, a company official requested administrative reconsideration of the Department's Notice of Negative Determination Regarding Eligibility to Apply for Worker Adjustment Assistance, applicable to workers and former workers of the subject firm. The negative determination was issued on November 13, 2007, and was published in the Federal Register on December 10, 2007 (72 FR 69711).

The negative determination was based on the Department's finding that, during the relevant period, the subject firm did not produce an article within the meaning of section 222(a)(2) of the Trade Act of 1974. Workers performed maintenance of a facility that ceased production prior to the relevant period.

The request for reconsideration stated that several workers were not separated prior to the expiration of a previous Trade Adjustment Assistance certification (TA-W-58,039) because those workers were required in order for the trustee appointed by the bankruptcy court to carry out its responsibilities (to liquidate the assets and settle the affairs of the corporation).

The request for reconsideration also stated that the TAA certification of TA-W-58,039 was amended on February 28, 2006 and that the amended certification stated that “[t]he intent of the Department's certification is to include all workers of Liberty Fibers Corporation, a subsidiary of Silva Holdings, Inc., Lowland, Tennessee who was adversely affected by increased customer imports.”

The Department has carefully reviewed the request for reconsideration and has determined that the Department will conduct further investigation.

Conclusion

After careful review of the application, I conclude that the claim is of sufficient weight to justify reconsideration of the U.S. Department of Labor's prior decision. The application is, therefore, granted.

Signed at Washington, DC, this 11th day of December 2007.
Linda G. Poole,
Certifying Officer, Division of Trade Adjustment Assistance.

[FR Doc. E7-24543 Filed 12-18-07; 8:45 am]

BILLING CODE 4510-FN-P